DEPARTMENT OF LABOR

Mine Safety and Health Administration

Petitions for Modification

The following parties have filed petitions to modify the application of existing safety standards under section 101(c) of the Federal Mine Safety and Health Act of 1977.

1. F-M Coal Corporation

[Docket No. M-2002-071-C]

F-M Coal Corporation, P.O. Box 1733, Corbin, Kentucky 40702 has filed a petition to modify the application of 30 CFR 75.380(f)(4)(i) (Escapeways; bituminous and lignite mines) to its Mine No. 4 (I.D. No. 15-18466) located in Knox County, Kentucky. The petitioner proposes to use two five-pound or one ten-pound portable chemical fire extinguishers on each Mescher tractor at Mine No. 4. Each fire extinguisher would be inspected on a daily basis by the equipment operator prior to entering the escapeway, and records would be maintained for all inspections of the fire extinguishers. The fire extinguishers will be readily accessible to the equipment operator. A sufficient number of spare fire extinguishers will be maintained at the mine in case a defective fire extinguisher is detected. The petitioner asserts that the proposed alternative method would provide at least the same measure of protection as the existing standard.

2. Snyder Coal Company

[Docket No. M-2002-072-C]

Snyder Coal Company, 66 Snyder Lane, Hegins, Pennsylvania 17938 has filed a petition to modify the application of 30 CFR 75.1002-1 (Location of other electric equipment; requirements for permissibility) to its Rattling Run Slope Mine (I.D. No. 36-08713) located in Schuylkill County, Pennsylvania. The petitioner requests a modification of the existing standard to permit the use of non-permissible electric equipment within 150 feet of the pillar line. The petitioner states that the non-permissible equipment would include drags and battery locomotives due in part to the method of mining used in pitching anthracite mines and the alternative evaluation of the mine air quality for methane on an hourly basis during operation. The petitioner asserts that the proposed alternative method would provide at least the same measure of protection as the existing standard.

3. Mountain Coal Company, L.L.C.

[Docket No. M-2002-073-C]

Mountain Coal Company, L.L.C., 5174 Highway 133, P.O. Box 591, Somerset, Colorado 81434 has filed a petition to modify the application of 30 CFR 75.352 (Return air courses) to its West Elk Mine (I.D. No. 05-03672) located in Gunnison County, Colorado. The petitioner proposes to temporarily use a portion of the #4 belt entry as a return air course. The petitioner has listed specific stipulations that would be used to achieve an equivalent level of safety when its proposed alternative method is implemented. The petitioner asserts that the proposed alternative method would provide at least the same measure of protection as the existing standard.

Request for Comments

Persons interested in these petitions are encouraged to submit comments via e-mail to comments@msha.gov, or on a computer disk along with an original hard copy to the Office of Standards, Regulations, and Variances, Mine Safety and Health Administration, 1100 Wilson Boulevard, Room 2352, Arlington, Virginia 22209. All comments must be postmarked or received in that office on or before October 21, 2002. Copies of these petitions are available for inspection at that address.

Dated at Arlington, Virginia, this 16th day of September, 2002.
Marvin W. Nichols, Jr.,
Director, Office of Standards, Regulations, and Variances.

[FR Doc. 02-23945 Filed 9-19-02; 8:45 am]

BILLING CODE 4510-43-P